DEPARTMENT OF HEALTH AND HUMAN SERVICES

Centers for Disease Control and Prevention

Notice of Award of a Sole Source Cooperative Agreement To Fund National Health Laboratory Service (NHLS)

AGENCY: Centers for Disease Control and Prevention (CDC), Department of Health and Human Services (HHS).

ACTION: Notice.

SUMMARY: The Centers for Disease Control and Prevention (CDC), located within the Department of Health and Human Services (HHS), announces the award(s) of approximately $5,000,000, for Year 1 funding to NHLS. The(se) award(s) will strengthen laboratory systems for improved access to sustainable delivery of quality laboratory services and promote rational use of diagnostic services in South Africa through above site interventions. Funding amounts for years 2-5 will be set at continuation.

DATES: The period for this award will be September 30, 2024, through September 29, 2029.

FOR FURTHER INFORMATION CONTACT: Artur Ramos, Center for Global Health, Centers for Disease Control and Prevention, 100 Totius Street, Groenkloof, Pretoria, telephone: 3108483712, e-Mail: cer9@cdc.gov.

SUPPLEMENTARY INFORMATION: The(se) sole source award(s) will address gaps in line with PEPFAR strategies and the Government of South Africa's key priority areas that need continued PEPFAR support. This includes developing and reviewing laboratory policies, strategic plans, and governance structures to expand diagnostic health equity and response to Human Immunodeficiency Virus (HIV), Tuberculosis (TB) and related public health needs. It also includes prioritizing technical and systems advancements to increase operational efficiencies and improve service delivery as well as supporting an environment that facilitates and endorses integration, ownership, and sustainable transition of PEPFAR-funded laboratory activities to NHLS and the National Department of Health.

NHLS is in a unique position to conduct this work, as it is the sole provider of diagnostic pathology services to the public sector in South Africa and has been mandated by the government of South Africa under the National Health Laboratory Service Act, 2000 to provide quality, affordable, and sustainable laboratory and related public health services. Quality laboratory testing is an essential building block of the HIV clinical cascade as accurate and timely clinical laboratory services will facilitate the earlier diagnosis of HIV, staging, identification of adverse drug events and opportunistic infections, and monitoring the response of individual patients to therapy, including identification of treatment failures.

Summary of the Award

Recipient: National Health Laboratory Service (NHLS).

Purpose of the Award: The purpose of this award is to strengthen laboratory systems for improved access to sustainable delivery of quality laboratory services and promote rational use of diagnostic services in South Africa through above site interventions.

Amount of Award: For NHLS, the approximate year 1 funding amount will be $5,000,000 in Federal Fiscal Year (FYY) 2024 funds, subject to the availability of funds. Funding amounts for years 2-5 will be set at continuation.

Authority: This program is authorized under Public Law 108-25 (the United States Leadership Against HIV AIDS, Tuberculosis and Malaria Act of 2003) (22 U.S.C. 7601, et seq.) and Public Law 110-293 (the Tom Lantos and Henry J. Hyde United States Global Leadership Against HIV/AIDS, Tuberculosis, and Malaria Reauthorization Act of 2008), and Public Law 113-56 (PEPFAR Stewardship and Oversight Act of 2013). Additionally, this program is authorized under section 307 of the Public Health Service Act (42 U.S.C. 242l), as amended and section 301(a) of the Public Health Service Act (42 U.S.C. 241(a)), as amended.

Period of Performance: The period for this award will be September 30, 2024, through September 29, 2029.

Dated: March 13, 2024.
Jamie Legier
Acting Director, Office of Grants Services, Centers for Disease Control and Prevention.

[FR Doc. 2024-05777 Filed 3-18-24; 8:45 am]

BILLING CODE 4163-18-P